DEPARTMENT OF COMMERCE

National Oceanic and Atmospheric Administration

RIN 0648-XE746

Mid-Atlantic Fishery Management Council (MAFMC); Meeting

AGENCY: National Marine Fisheries Service (NMFS), National Oceanic and Atmospheric Administration (NOAA), Commerce.

ACTION: Notice of a public meeting.

SUMMARY: The Mid-Atlantic Fishery Management Council's (MAFMC) Ecosystem and Ocean Planning Committee will hold a public meeting.

DATES: The meeting will be held on Friday, July 29, 2016, from 9 a.m. to 12 p.m. For agenda details, see SUPPLEMENTARY INFORMATION.

ADDRESSES: The meeting will be held via Webinar, at (http://mafmc.adobeconnect.com/eop072916/), with a telephone audio connection (provided when connecting). Information on how to connect via Webinar will be posted to www.mafmc.org. Public access to the Webinar will be provided at the Council office, 800 State Street, Suite 201, Dover, DE.

Council address: Mid-Atlantic Fishery Management Council, 800 N. State Street, Suite 201, Dover, DE 19901; telephone: (302) 674-2331 or on their Web site, at www.mafmc.org.

FOR FURTHER INFORMATION CONTACT: Christopher M. Moore, Ph.D., Executive Director, Mid-Atlantic Fishery Management Council, telephone: (302) 526-5255.

SUPPLEMENTARY INFORMATION:

Agenda

The purpose of the meeting is to discuss and provide comments on the Council's Ecosystem Approach to Fisheries Management Guidance Document which will be presented to the Council for approval at its August 2016 meeting in Virginia Beach, VA. These meetings are physically accessible to people with disabilities. Requests for sign language interpretation or other auxiliary aid should be directed to M. Jan Saunders, (302) 526-5251, at least 5 days prior to the meeting date.

Authority: 16 U.S.C. 1801 et seq.

Dated: July 15, 2016.
Tracey L. Thompson,
Acting Director, Office of Sustainable Fisheries, National Marine Fisheries Service.

[FR Doc. 2016-17134 Filed 7-19-16; 8:45 am]

BILLING CODE 3510-22-P